LEGAL SERVICES CORPORATION

Sunshine Act Meeting of the Board of Directors

TIME AND DATE: The Board of Directors of the Legal Services Corporation will meet May 1, 2004 at 2 p.m.

LOCATION: Moot Court Room, University of Maryland School of Law, 500 West Baltimore Street, Baltimore, Maryland 21201.

SPECIAL NOTICE: Please note that meetings of the Board of Directors will be held at a different location on Friday, April 30, 2004.

STATUS OF MEETING: Open, except that a portion of the meeting may be closed pursuant to a vote of the Board of Directors to hold an executive session. At the closed session, the Corporation's General Counsel will report to the Board on litigation to which the Corporation is or may become a party, and the Board may act on the matters reported. The closing is authorized by 5 U.S.C. 552b(c)(2) and LSC's corresponding regulation 45 CFR 1622.5(a); 5 U.S.C. 552b(c)(6) and LSC's corresponding regulation 45 CFR 1622.5(e); 5 U.S.C. 552b(c)(7) and LSC's implementing regulation 45 CFR 1622.5(f)(4), and 5 U.S.C. 522b(c)(9)(B) and LSC's implementing regulation 45 CFR 1622.5(g); and 5 U.S.C. 552b(c)(10) and LSC's corresponding regulation 45 CFR 1622.5(h). A copy of the General Counsel's Certification that the closing is authorized by law will be available upon request.

MATTERS TO BE CONSIDERED:

Open Session

1. Approval of agenda.

2. Approval of minutes of the Board's meeting of January 30, 2004.

3. Approval of minutes of the Board's meeting of January 31, 2004.

4. Approval of minutes of the Executive Session of the Board's meeting of January 31, 2004.

5. Approval of minutes of the Executive Session of the Board's meeting of November 22, 2003.

6. Approval of minutes of the Executive Session of the Board's meeting of November 23, 2003.

7. Chairman's Report.

8. Members' Reports.

9. President's Report.

10. Acting Inspector General's Report.

11. Consider and act on the report of the Board's Committee on Provision for the Delivery of Legal Services.

12. Consider and act on the report of the Board's Finance Committee.

13. Consider and act on the report of the Board's Operations & Regulations Committee.

14. Consider and act on the report of the Board's Search Committee for LSC President and Inspector General.

15. Consider and act on proposal concerning space at 3333 K Street, NW., Washington, DC.

16. Consider and act on the locations of the Board's meetings for the remainder of calendar year 2004.

17. Consider and act on other business.

18. Public comment.

19. Consider and act on whether to authorize an executive session of the Board to address items listed below under Closed Session.

Closed Session

20. Briefing by the Acting Inspector General on the activities of the Office of Inspector General.

21. Consider and act on General Counsel's report on potential and pending litigation involving LSC.

22. Consider and act on motion to adjourn meeting.

FOR FURTHER INFORMATION CONTACT: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: April 21, 2004.
Victor M. Fortuno,
Vice President for Legal Affairs, General Counsel & Corporate Secretary.

[FR Doc. 04-9433 Filed 4-21-04; 1:09 pm]

BILLING CODE 7050-01-P